DEPARTMENT OF COMMERCE

National Oceanic and Atmospheric Administration

[I.D. 070703B]

Pacific Fishery Management Council; Public Meeting

AGENCY: National Marine Fisheries Service (NMFS), National Oceanic and Atmospheric Administration (NOAA), Commerce.

ACTION: Notice of public meetings.

SUMMARY: The Pacific Fishery Management Council's (Council) Model Evaluation Workgroup (MEW) will hold a work session, which is open to the public, to discuss documentation of the chinook Fishery Regulation Assessment Model (FRAM).

DATES: The work session will be held Thursday, July 24, 2003 from 9 a.m. to 4 p.m.

ADDRESSES: The work session will be held at the National Marine Fisheries Service, 510 Desmond Drive SE, Room 261, Lacey, WA 98503; telephone: (360) 753-9580.

Council address: Pacific Fishery Management Council, 7700 NE Ambassador Place, Suite 200, Portland, OR 97220-1384.

FOR FURTHER INFORMATION CONTACT: Mr. Chuck Tracy, (503) 820-2280.

SUPPLEMENTARY INFORMATION: The purpose of the work session is to establish a process for developing model documentation for the chinook FRAM, and prioritize and schedule upcoming tasks.

Although nonemergency issues not contained in the meeting agenda may come before the MEW for discussion, those issues may not be the subject of formal MEW action during this meeting. MEW action will be restricted to those issues specifically listed in this notice and any issues arising after publication of this notice that require emergency action under section 305(c) of the Magnuson-Stevens Fishery Conservation and Management Act, provided the public has been notified of the MEW's intent to take final action to address the emergency.

Special Accommodations

This meeting is physically accessible to people with disabilities. Requests for sign language interpretation or other auxiliary aids should be directed to Ms. Carolyn Porter at (503) 820-2280 at least 5 days prior to the meeting date.

Dated: July 7, 2003.
Richard W. Surdi,
Acting Director, Office of Sustainable Fisheries, National Marine Fisheries Service.

[FR Doc. 03-17522 Filed 7-9-03; 8:45 am]

BILLING CODE 3510-22-S